DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 74 FR 52816, dated October 14, 2009) is amended to reflect the reorganization of the Centers for Disease Control and Prevention (CDC). This reorganization is being undertaken to strengthen CDC's response to H1N1 and other public health emergencies, establish systems to better identify and address leading causes of death and disability, and strengthen CDC's ability to support state and local action to improve health.

I. Under Part C, Section C-B, Organization and Functions, the following organizational units are deleted in their entirety:

• Coordinating Center for Environmental Health and Injury Prevention (CT)

○ National Center for Environmental Health (CTB)

○ National Center for Injury Prevention and Control (CTC)

• Coordinating Center for Health Information and Services (CP)

○ National Center for Health Marketing (CPB)

○ National Center for Health Statistics (CPC)

○ National Center for Public Health Informatics (CPE)

• Coordinating Center for Health Promotion (CU)

○ National Center on Birth Defects and Developmental Disabilities (CUB)

○ National Center for Chronic Disease Prevention and Health Promotion (CUC)

• Coordinating Center for Infectious Diseases (CV)

○ National Center for Immunization and Respiratory Diseases (CVG)

○ National Center for Zoonotic, Vector-Borne, and Enteric Diseases (CVH)

○ National Center for HIV/AIDS, Viral Hepatitis, STD, and TB Prevention (CVJ)

○ National Center for Preparedness, Detection, and Control of Infectious Diseases (CVK)

II. Under Part C, Section C-B, Organization and Functions, make the following changes:

• Retitle all references to the Coordinating Office for Terrorism Preparedness and Emergency Response (CG) to the Office of Public Health Preparedness and Response (CG)

• Retitle all references to the Coordinating Center for Global Health (CW) to the Center for Global Health (CW)

III. Under Part C, Section C-B, Organization and Functions, insert the following:

• Office of State and Local Support (CQ): The Office of State and Local Support is headed by a Deputy Director and provides strategic support for programs and activities across CDC that impact state and local efforts.

• Office of Surveillance, Epidemiology, and Laboratory Services (CP): The Office of Surveillance, Epidemiology, and Laboratory Services is headed by a Deputy Director and provides strategic direction on program-specific surveillance, epidemiology, and laboratory activities to its components, which are as follows:

○ National Center for Health Statistics (CPC)

○ Offices of Surveillance, Epidemiology, Informatics, Laboratory Science, and Career Development (CPG)

• Office of Non-Communicable Diseases, Injury and Environmental Health (CU): The Office of Non-Communicable Diseases, Injury and Environmental Health is headed by a Deputy Director and provides strategic direction on non-communicable disease activities to its components, which are as follows:

○ National Center on Birth Defects and Developmental Disabilities (CUB)

○ National Center for Chronic Disease Prevention and Health Promotion (CUC)

○ National Center for Environmental Health (CUG)

○ National Center for Injury Prevention and Control (CUH)

• Office of Infectious Diseases (CV): The Office of Infectious Diseases is headed by a Deputy Director and provides strategic direction on infectious disease activities to its components which are as follows:

○ National Center for Immunization and Respiratory Diseases (CVG)

○ National Center for HIV/AIDS, Viral Hepatitis, STD, and TB Prevention (CVJ)

○ National Center for Emerging and Zoonotic Infectious Diseases (CVL)

IV. Delegations of Authority: All delegations and redelegations of authority made to officials and employees of affected organizational components will continue in them or their successors pending further redelegation, provided they are consistent with this reorganization.

Authority: 44 U.S.C. 3101.

Dated: December 17, 2009.
Kathleen Sebelius,
Secretary.

[FR Doc. E9-30677 Filed 12-24-09; 8:45 am]

BILLING CODE 4160-18-P